NUCLEAR REGULATORY COMMISSION

Sunshine Act Meeting

DATE: Weeks of July 28, August 4, 11, 18, 25, September 1, 2003.

PLACE: Commissioners' Conference Room, 11555 Rockville Pike, Rockville, Maryland.

STATUS: Public and Closed.

MATTERS TO BE CONSIDERED:

Week of July 28, 2003

There are no meetings scheduled for the Week of July 28, 2003.

Week of August 4, 2003—Tentative

There are no meetings scheduled for the Week of August 4, 2003.

Week of August 11, 2003—Tentative

There are no meetings scheduled for the Week of August 11, 2003.

Week of August 18, 2003—Tentative

There are no meetings scheduled for the Week of August 18, 2003.

Week of August 25, 2003—Tentative

Wednesday, August 27, 2003

9:30 a.m. Briefing on License Renewal Program, Power Uprate Activities, and High Priority Activities (Public Meeting) (Contact: Ho Nieh, 301-415-1721).

This meeting will be webcast live at the Web address— http://www.nrc.gov

Week of September 1, 2003—Tentative

There are no meetings scheduled for the Week of September 1, 2003.

The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 24, 2003.
D.L. Gamberoni,
Technical Coordinator, Office of the Secretary.

[FR Doc. 03-19486 Filed 7-28-03; 10:09 am]

BILLING CODE 7590-01-M